NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of revisions to an announcement of meetings for the transaction of National Science Board business.

FEDERAL REGISTER CITATION OF PREVIOUS ANNOUNCEMENT: 84 FR 2933-34, published on Friday, February 8, 2019.

PREVIOUSLY ANNOUNCED SESSION CANCELLED:

Plenary Board

February 12, 2019

Open Session: 1:00-2:00 p.m.

• Chair's Opening Remarks and Introductions

○ Mr. Chris Liddell, White House Deputy Chief of Staff for Policy Coordination

This session has been CANCELLED, per vote of the National Science Board.

ADDITIONAL TIME FOR COMMITTEE SESSION:

Committee on Awards and Facilities (A&F)

February 12, 2019

Closed session: 9:30 a.m.-12:00 noon

• Committee Chair's Opening Remarks

• Approval of Prior Minutes

• Action Item: Antarctic Infrastructure Modernization for Science (AIMS)

• Action Item: International Ocean Discovery Program (IODP)

• Update on Cornell High Energy Synchrotron Source

• Context Item: Green Bank Observatory

• Update on National Ecological Observatory Network

This session will be RECONVENED DURING THE TIME 1:15 p.m. TO 2:00 p.m. February 12, 2019, per vote of the National Science Board.

CONTACT PERSON FOR MORE INFORMATION: Brad Gutierrez, bgutierr@nsf.gov, 703/292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2019-02539 Filed 2-12-19; 4:15 pm]

BILLING CODE 7555-01-P